NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 13, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The application received follows:

1. Permit Application No. 2009-025

Applicant

Cindy Lee Van Dover, Duke University Marine Lab, 135 Marine Lab Road, Beaufort, NC 28516.

Activity for Which Permit Is Requested

Take, Introduce Non-Indigenous Species into Antarctica, and Import into the USA. The applicant plans to collect sediment cores and seep invertebrates from the Larsen B embayment in order to (1) Characterize trophic relations between sediment bacteria, clams and other macro-invertebrates present in newly-discovered cold seeps; (2) provide a preliminary assessment of the genetic population structure of Larsen B cold seep clams; and (3) characterize the evolutionary relationship between Larsen B cold seep clams and other members of the family Vesicomyidae. In addition, the applicant will deploy North Atlantic Right Whale vertebrae bones and pine wood substrate on eight moorings scattered through the Larsen B embayment. If time permits, invertebrates will be collected from the whale bone and wood substrates. During their second season, additional sediment cores will be collected as well as invertebrates, and the bone and wood moorings will be recovered.

Location

Larsen B Embayment, Antarctica.

Dates

January 1, 2010 to March 31, 2012.

Nadene G. Kennedy,
Permit Officer, Office of Polar Programs.

[FR Doc. E9-5291 Filed 3-12-09; 8:45 am]

BILLING CODE 7555-01-P